Executive Order 14253 of March 27, 2025

Restoring Truth and Sanity to American History

By the authority vested in me as President by the Constitution and the laws of the United States of America, it is hereby ordered:

Section 1. Purpose and Policy. Over the past decade, Americans have witnessed a concerted and widespread effort to rewrite our Nation's history, replacing objective facts with a distorted narrative driven by ideology rather than truth. This revisionist movement seeks to undermine the remarkable achievements of the United States by casting its founding principles and historical milestones in a negative light. Under this historical revision, our Nation's unparalleled legacy of advancing liberty, individual rights, and human happiness is reconstructed as inherently racist, sexist, oppressive, or otherwise irredeemably flawed. Rather than fostering unity and a deeper understanding of our shared past, the widespread effort to rewrite history deepens societal divides and fosters a sense of national shame, disregarding the progress America has made and the ideals that continue to inspire millions around the globe.

The prior administration advanced this corrosive ideology. At Independence National Historical Park in Philadelphia, Pennsylvania—where our Nation declared that all men are created equal—the prior administration sponsored training by an organization that advocates dismantling “Western foundations” and “interrogating institutional racism” and pressured National Historical Park rangers that their racial identity should dictate how they convey history to visiting Americans because America is purportedly racist.

Once widely respected as a symbol of American excellence and a global icon of cultural achievement, the Smithsonian Institution has, in recent years, come under the influence of a divisive, race-centered ideology. This shift has promoted narratives that portray American and Western values as inherently harmful and oppressive. For example, the Smithsonian American Art Museum today features “The Shape of Power: Stories of Race and American Sculpture,” an exhibit representing that “[s]ocieties including the United States have used race to establish and maintain systems of power, privilege, and disenfranchisement.” The exhibit further claims that “sculpture has been a powerful tool in promoting scientific racism” and promotes the view that race is not a biological reality but a social construct, stating “Race is a human invention.”

The National Museum of African American History and Culture has proclaimed that “hard work,” “individualism,” and “the nuclear family” are aspects of “White culture.” The forthcoming Smithsonian American Women's History Museum plans on celebrating the exploits of male athletes participating in women's sports. These are just a few examples.

It is the policy of my Administration to restore Federal sites dedicated to history, including parks and museums, to solemn and uplifting public monuments that remind Americans of our extraordinary heritage, consistent progress toward becoming a more perfect Union, and unmatched record of advancing liberty, prosperity, and human flourishing. Museums in our Nation's capital should be places where individuals go to learn—not to be subjected to ideological indoctrination or divisive narratives that distort our shared history.

To advance this policy, we will restore the Smithsonian Institution to its rightful place as a symbol of inspiration and American greatness—igniting the imagination of young minds, honoring the richness of American history and innovation, and instilling pride in the hearts of all Americans.

Sec. 2. Saving Our Smithsonian. (a) The Vice President, in consultation with the Assistant to the President for Domestic Policy and the Special Assistant to the President and Senior Associate Staff Secretary, Lindsey Halligan, Esq., shall work to effectuate the policies of this order through his role on the Smithsonian Board of Regents with respect to the Smithsonian Institution and its museums, education and research centers, and the National Zoo, including by seeking to remove improper ideology from such properties, and shall recommend to the President any additional actions necessary to fully effectuate such policies.

(b) The Vice President and the Director of the Office of Management and Budget shall work with the Congress to ensure that future appropriations to the Smithsonian Institution:

(i) prohibit expenditure on exhibits or programs that degrade shared American values, divide Americans based on race, or promote programs or ideologies inconsistent with Federal law and policy; and

(ii) celebrate the achievements of women in the American Women's History Museum and do not recognize men as women in any respect in the Museum.

(c) The Director of the Office of Management and Budget and the Secretary of the Interior shall take any other measures within their authority to promote the policy of this order.

(d) As appropriate, the Vice President shall, in consultation with the Assistant to the President for Domestic Policy and Special Assistant to the President and Senior Associate Staff Secretary, Lindsey Halligan, Esq., work with the Speaker of the House of Representatives and the Senate Majority Leader, to seek the appointment of citizen members to the Smithsonian Board of Regents committed to advancing the policy of this order.

Sec. 3. Restoring Independence Hall. The Secretary of the Interior shall provide sufficient funding, as available, to improve the infrastructure of Independence National Historical Park, which shall be complete by July 4, 2026, the 250th anniversary of the signing of the Declaration of Independence.

Sec. 4. Restoring Truth in American History.

(a) The Secretary of the Interior shall:

(i) determine whether, since January 1, 2020, public monuments, memorials, statues, markers, or similar properties within the Department of the Interior's jurisdiction have been removed or changed to perpetuate a false reconstruction of American history, inappropriately minimize the value of certain historical events or figures, or include any other improper partisan ideology;

(ii) take action to reinstate the pre-existing monuments, memorials, statues, markers, or similar properties, as appropriate and consistent with 43 U.S.C. 1451 et seq., 54 U.S.C. 100101 et seq., and other applicable law; and

(iii) take action, as appropriate and consistent with applicable law, to ensure that all public monuments, memorials, statues, markers, or similar properties within the Department of the Interior's jurisdiction do not contain descriptions, depictions, or other content that inappropriately disparage Americans past or living (including persons living in colonial times), and instead focus on the greatness of the achievements and progress of the American people or, with respect to natural features, the beauty, abundance, and grandeur of the American landscape.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 27, 2025.

[FR Doc. 2025-05838

Filed 4-2-25; 8:45 am]

Billing code 3395-F4-P